DEPARTMENT OF HEALTH AND HUMAN SERVICES

Administration for Children and Families

Submission for OMB Review; ORR Services for Survivors of Torture Program Data Points and Performance Progress Reports (New Collection)

AGENCY: Office of Refugee Resettlement, Administration for Children and Families, HHS.

ACTION: Request for public comment.

SUMMARY: The Administration for Children and Families' (ACF) Office of Refugee Resettlement (ORR) intends to collect demographic, programmatic, and outcome data on Services for Survivors of Torture (SOT) grant recipients and the clients they serve. This data collection will allow ORR to learn more about the populations served; the types and effectiveness of services provided; methods, challenges, and facilitators of implementing services; and grant recipients' progress towards programmatic goals. ORR will collect these data on the new cohort of Services for SOT grant recipients; ORR collected information from the previous grantee cohort under the Generic Performance Progress Report (OMB #0970-0490). ORR has made changes to the data collection instruments for use in the new cohort.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: ORR proposes to use the Program Data Points Form (PDPs) and Performance Progress Reports (PPRs) to collect data on the Services for SOT grant recipients and their clients. In 2019, ORR began requiring the Services for SOT grant recipients to collect and report their PDPs through the ORR Refugee Arrivals Data System (RADS), an information technology platform used for enhanced data collection and record keeping. The new cohort of Services for SOT grant recipients, who will receive 5-year awards in September 2022, will also provide these data points to ORR using RADS. Grant recipients will provide aggregated data on new and continuing clients annually, including demographic information, characteristics related to experiences of torture, services received, and well-being across six outcome domains. Grant recipients will also provide information about community attendance at trainings and pro-bono services donated to the program. In the PPRs, grant recipients will provide primarily narrative information on grant-funded activities and progress towards grant goals biannually.

Information collected will be used in aggregate by ORR to provide reports to stakeholders, including a required report to Congress, and responses to funding requests.

Respondents: Services for SOT grant programs (this may include non-profit social service, health, and higher education organizations, states, municipalities, and for-profit organizations).

Annual Burden Estimates
Instrument | Total number of respondents | Number of responses per respondent | Average burden hours per response | Annual burden hours
Program Data Points Form (PDPs) | 35 | 1 | 6 | 210
Performance Progress Reports (PPRs)—Parts A and B | 35 | 2 | 6 | 420

Estimated Total Annual Burden Hours: 630.

Authority: Section 5(a) of the “Torture Victims Relief Act of 1998,” Public Law 105-320 (22 U.S.C. 2152 note) Assistance for Treatment of Torture Victims.

Mary B. Jones,
ACF/OPRE Certifying Officer.

[FR Doc. 2022-20746 Filed 9-23-22; 8:45 am]

BILLING CODE 4184-46-P